DEPARTMENT OF HEALTH AND HUMAN SERVICES

National Institutes of Health

National Cancer Institute; Notice of Closed Meeting

Pursuant to section 10(d) of the Federal Advisory Committee Act, as amended (5 U.S.C. Appendix 2), notice is hereby given of the meeting of the President's Cancer Panel.

The meeting will be closed to the public in accordance with the provisions set forth in section 552b(c)(9)(B), Title 5 U.S.C., as amended, because the premature disclosure of these discussions would be likely to significantly frustrate implementation of recommendations.

Name of Committee: President's Cancer Panel.

Date: March 17, 2009.

Time: 1 p.m. to 3 p.m.

Agenda: Review and evaluate the final draft for the Environmental Factors in Cancer 2008/2009 Annual Report.

Place: National Cancer Institute, Office of the Director, National Institutes of Health, 6116 Executive Blvd., Suite 220, Bethesda, MD 20892 (Teleconference).

Contact Person: Abby Sandler, PhD., Executive Secretary, Chief, Institute Review Office, Office of the Director, National Cancer Institute, NIH, 6116 Executive Blvd., Suite 220, MSC 8349, Bethesda, MD 20892-8349, 301/451-9399, sandlera@mail.nih.gov.

Any interested person may file written comments with the committee by forwarding the comments to the Contact Person listed on this notice. The comments should include the name, address, telephone number and, when applicable, the business or professional affiliation of the interested person.

Information is also available on the Institute's/Center's home page: http://deainfo.nci.nih.gov/advisory/pcp/pcp.htm, where an agenda and any additional information for the meeting will be posted when available.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: February 19, 2009.
Jennifer Spaeth,
Director, Office of Federal Advisory Committee Policy.

[FR Doc. E9-4048 Filed 2-24-09; 8:45 am]

BILLING CODE 4140-01-P